DEPARTMENT OF HOMELAND SECURITY

Coast Guard

33 CFR Part 100.701

[Docket No. USCG-2015-0955] Special Local

Regulations; Recurring Marine Events in the Seventh Coast Guard District

AGENCY: Coast Guard, DHS.

ACTION: Notice of enforcement of regulation.

SUMMARY: The Coast Guard will enforce the regulation pertaining to the Savannah Harbor Boat Parade of Lights and Fireworks taking place on November 28, 2015. This action is necessary to ensure safety of life on navigable waters of the United States during the Savannah Harbor Boat Parade of Lights and Fireworks. During the enforcement period, the special local regulation establishes a regulated area which will prohibit all people and vessels from entering. No person or vessel may enter, transit through, anchor in, or remain within the area without permission of the Captain of the Port Savannah, or a designated representative.

DATES: The regulation in 33 CFR 100.701 Table 1 will be enforced from 5 p.m. to 10 p.m. on November 28, 2015.

FOR FURTHER INFORMATION CONTACT: If you have questions on this notice, call or email MST1 Cliffton Hendry, Marine Safety Unit Savannah Office of Waterways Management, Coast Guard; telephone 912-652-4353, extension 243, or email Cliffton.R.Hendry@uscg.mil.

SUPPLEMENTARY INFORMATION: The Coast Guard will enforce the special local regulation for the Savannah Parade of Lights and Fireworks in 33 CFR 100.701 Table 1 from 5 p.m. to 10 p.m. on November 28, 2015.

Under the provisions of 33 CFR 100.701 no person or vessel may enter the regulated area, unless they receive permission to do so from the Captain of the Port Savannah, or a designated representative. This temporary rule creates a regulated area that will encompass the entire Savannah River in Savannah, GA beginning at the Talmadge Bridge near River Street, coordinates 32°05′20″ N., 081°05′56.3″ W., and proceeding down river to a line drawn at 146 degrees true from day board 62, approximate coordinates are: 32°04′48.7″ N., 081°04′47.9″ W.

Spectator vessels may safely transit outside the regulated area, but may not anchor, block, loiter in, or impede the transit of festival participants or official patrol vessels. The Coast Guard may be assisted by other Federal, State, or local law enforcement agencies in enforcing this regulation.

This notice is issued under authority of 33 CFR 100.701 and 5 U.S.C. 552(a). The Coast Guard will provide notice of the regulated areas by Local Notice to Mariners, Broadcast Notice to Mariners, and on-scene designated representatives.

Dated: October 26, 2015.
A.M. Beach,
Commander, U.S. Coast Guard, Captain of the Port, Savannah.

[FR Doc. 2015-28792 Filed 11-10-15; 8:45 am]

BILLING CODE 9110-04-P